DEPARTMENT OF TRANSPORTATION

Federal Aviation Administration

Commercial Space Transportation Advisory Committee—Open Meeting

AGENCY: Federal Aviation Administration (FAA), DOT.

ACTION: Notice of Commercial Space Transportation Advisory Committee Open meeting.

SUMMARY: Pursuant to section 10(a)(2) of the Federal Advisory Committee Act (Pub. L. 92-463, 5 U.S.C. App. 2), notice is hereby given of the meetings of the Commercial Space Transportation Advisory Committee (COMSTAC). The meetings will take place on Tuesday and Wednesday, May 18 and 19, 2010, starting at 8 a.m. at the National Housing Center, 1201 15th Street NW., Washington, DC 20005.

The proposed agenda for these meetings will feature discussions on:

—The impact of the President's proposed budget on commercial space transportation;

—The issues the working groups propose to address; and

—The proposed by-laws for the COMSTAC.

There will also be briefings on the 2010 Commercial Space Transportation Market Forecasts and discussions and activity reports by the chairpersons of the COMSTAC working groups.

Interested members of the public may submit relevant written statements for the COMSTAC members to consider under the advisory process. Statements may concern the issues and agenda items mentioned above or additional issues that may be relevant for the U.S. commercial space transportation industry. Interested parties wishing to submit written statements should contact Susan Lender, DFO, (the Contact Person listed below) in writing (mail or e-mail) by April 30,2010, so that the information can be made available to COMSTAC members for their review and consideration prior to the May 18 and 19, 2010, meetings. Written statements should be supplied in the following formats: One hard copy with original signature or one electronic copy via e-mail.

Subject to approval, a portion of the May 19th meeting will be closed to the public (starting at 3:45 p.m.).

An agenda will be posted on the FAA Web site at http://www.faa.gov/go/ast. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Susan Lender (AST-100), Office of Commercial Space Transportation (AST), 800 Independence Avenue, SW., Room 331, Washington, DC 20591, telephone (202) 267-8029; E-mail susan.lender@faa.gov. Complete information regarding COMSTAC is available on the FAA website at: http://www.faa.gov/about/office_org/headquarters_offices/ast/advisory_committee/.

Issued in Washington, DC, March 25, 2010.
George C. Nield,
Associate Administrator for Commercial Space Transportation.

[FR Doc. 2010-7399 Filed 4-1-10; 8:45 am]

BILLING CODE 4910-13-P